DEPARTMENT OF COMMERCE

International Trade Administration

Solicitation of Nominations for Membership on the Civil Nuclear Trade Advisory Committee

AGENCY: International Trade Administration, Commerce.

ACTION: Notice of Solicitation of Nominations for Membership on the Civil Nuclear Trade Advisory Committee.

SUMMARY: The Department of Commerce (the Department), as of September 2012, has rechartered the Civil Nuclear Trade Advisory Committee (CINTAC) and is seeking nominations for 40 members to be appointed for the new two-year charter term. The purpose of the CINTAC is to advise the Secretary of Commerce regarding the development and administration of programs to expand United States exports of civil nuclear goods and services in accordance with applicable United States laws and regulations, for use by the Department as chair of the Civil Nuclear Trade Working Group (CINTWG) of the Trade Promotion Coordinating Committee (TPCC).

DATES: All applications for immediate consideration for appointment must be received by close of business on December 7, 2012. After that date, ITA will continue to accept applications under this notice for a period of up to two years from the deadline to fill any vacancies that may arise.

ADDRESSES: All nominations should be submitted in pdf or MS Word format via email to David.Kincaid@trade.gov, via FAX to 202-482-5665, or via mail to David Kincaid, Office of Energy & Environmental Industries, Room 4053, U.S. Department of Commerce, 14th Street and Constitution Avenue NW., Washington, DC 20230.

FOR FURTHER INFORMATION CONTACT: David Kincaid, Office of Energy & Environmental Industries, Room 4053, U.S. Department of Commerce, 14th Street and Constitution Avenue NW., Washington, DC 20230; phone 202-482-1706; fax 202-482-5665; email David.Kincaid@trade.gov.

SUPPLEMENTARY INFORMATION:

I. Background and Authority

The Department of Commerce, as of September 6, 2012, has rechartered the CINTAC in accordance with the Federal Advisory Committee Act, as amended, 5 U.S.C. App. 2, for another two-year term, to be concluded September 6, 2014. The CINTAC functions solely as an advisory committee advising the Secretary of Commerce regarding the development and administration of programs to expand U.S. exports of civil nuclear goods and services for use by the Department of Commerce in its role as a member of the Civil Nuclear Trade Working Group of the Trade Promotion Coordinating Committee. In particular, the Committee advises on matters including, but not limited to:

(1) Trade policy development and negotiations relating to U.S. civil nuclear exports;

(2) The effect of U.S. and foreign government policies, regulations, programs, and practices on the export of U.S. civil nuclear goods and services;

(3) The competitiveness of U.S. industry and its ability to compete for civil nuclear products and services opportunities in international markets, including specific problems in exporting, and provide specific recommendations regarding U.S. Government and public/private actions to assist civil nuclear companies in expanding their exports;

(4) The identification of priority civil nuclear products and services markets with the potential for high immediate returns for U.S. exports, as well as emerging markets with a longer-term potential for U.S. exports;

(5) Strategies to increase private sector awareness and effective use of U.S. Government export promotion programs, and recommendations on how U.S. Government programs may be more efficiently designed and coordinated;

(6) The development of complementary industry and trade association export promotion programs, including ways for greater or more effective coordination of U.S. Government efforts with private sector organizations' civil nuclear industry export promotion efforts; and

(7) The development of U.S. Government programs to encourage producers of civil nuclear products and services to enter new foreign markets, in connection with which the CINTAC may advise on how to gather, disseminate, and promote awareness of information on civil nuclear exports and related trade issues.

II. Membership and Nominations

The CINTAC shall consist of approximately 40 members appointed by the Secretary, in accordance with applicable Department of Commerce guidance and based on their ability to carry out the objectives of the CINTAC. Members shall represent U.S. entities involved in the export of civil nuclear products and services and reflect the diversity of this sector, including in terms of entities' size and geographic location, and shall be drawn from U.S. civil nuclear manufacturing and services companies, U.S. utilities, U.S. trade associations, and other U.S. organizations in the U.S. civil nuclear sector. The Secretary shall appoint to the Committee at least one individual representing each of the following:

a. Civil nuclear manufacturing and services companies;

b. Small businesses;

c. Utilities;

d. Trade associations in the civil nuclear sector; and

e. Private sector organizations involved in strengthening the export competitiveness of U.S. civil nuclear products and services.

Members shall serve in a representative capacity, expressing the views and interests of a U.S. entity or organization, as well as its particular sector; they are, therefore, not Special Government Employees. Each member of the CINTAC must be a U.S. citizen, and must not be registered as a foreign agent under the Foreign Agents Registration Act. No member shall represent a company that is majority owned or controlled by a foreign government entity or entities.

Members shall serve at the pleasure of the Secretary from the date of appointment to the Committee to the date on which the Committee's charter terminates. The Secretary shall designate the CINTAC Chair and Vice Chair. The Chair and Vice Chair shall serve in those positions at the pleasure of the Secretary. The Assistant Secretary of Commerce for Manufacturing and Services shall designate a Designated Federal Officer (DFO) from among the employees of the Office of Energy and Environmental Industries. The Committee meets approximately four times a year, usually in Washington, D.C.

III. Compensation

Members of the CINTAC will not be compensated for their services or reimbursed for their travel expenses.

IV. Nominations

The Secretary of Commerce invites nominations to the CINTAC for the charter term consistent with the above membership requirements. Self-nominations will be accepted. If you are interested in nominating someone to become a member of the CINTAC, please provide the following information (2 pages maximum):

(1) Name;

(2) Title;

(3) Work phone, fax, and, email address;

(4) Company or trade association name and address including Web site address;

(5) Short biography of nominee including credentials;

(6) Brief description of the company or trade association and its business activities, company size (number of employees and annual sales), and export markets served; and,

(7) An affirmative statement that the applicant and entity to be represented meet all eligibility criteria, specifically addressing that the applicant:

(a) Is a U.S. citizen;

(b) Is not required to register as a foreign agent under the Foreign Agents Registration Act of 1938, as amended; and,

(c) Is not a federally-registered lobbyist, and that the applicant understands that if appointed, the applicant will not be allowed to continue to serve as a CINTAC member if the applicant becomes a federally-registered lobbyist.

Please do not send company or trade association brochures or any other information.

All nominations should be submitted in pdf or MS Word format via email to David.Kincaid@trade.gov, via FAX to 202-482-5665, or via mail to David Kincaid, Office of Energy & Environmental Industries, Room 4053, U.S. Department of Commerce, 14th Street and Constitution Avenue NW., Washington, DC 20230.

Nominations for immediate consideration must be received by close of business December 7, 2012. Nominees selected for appointment to CINTAC will be notified by return mail.

Dated: October 31, 2012.
Edward A. O'Malley,
Director, Office of Energy and Environmental Industries.

[FR Doc. 2012-26998 Filed 11-5-12; 8:45 am]

BILLING CODE 3510-DR-P